ENVIRONMENTAL PROTECTION AGENCY

[FRL-9992-27-OA]

Request for Nominations of Candidates for EPA's Science Advisory Board Computable General Equilibrium Model Review Panel

AGENCY: Environmental Protection Agency (EPA).

ACTION: Notice.

SUMMARY: The U.S. Environmental Protection Agency (EPA) Science Advisory Board (SAB) Staff Office invites nominations of environmental economists and other experts with expertise in computable general equilibrium (CGE) modeling to be considered for appointment to the SAB's CGE Model Review Panel.

DATES: Nominations should be submitted in time to arrive no later than May 15, 2019.

FOR FURTHER INFORMATION CONTACT: Any member of the public wishing further information regarding this Notice and Request for Nominations may contact Dr. Holly Stallworth, Designated Federal Officer (DFO), EPA Science Advisory Board Staff Office (1400R), U.S. Environmental Protection Agency, 1200 Pennsylvania Avenue NW, Washington, DC 20460; by telephone at (202) 564-2073 or at stallworth.holly@epa.gov. General information concerning the EPA SAB can be found at the EPA SAB website at http://www.epa.gov/sab.

SUPPLEMENTARY INFORMATION:

Background: The SAB (42 U.S.C. 4365) is a chartered Federal Advisory Committee that provides independent scientific and technical peer review, advice and recommendations to the EPA Administrator on the technical basis for EPA actions. As a Federal Advisory Committee, the SAB conducts business in accordance with the Federal Advisory Committee Act (FACA) (5 U.S.C. App. 2) and related regulations. The SAB CGE Model Review Panel will be an ad hoc panel of the SAB that provides advice through the chartered SAB. It will be charged with reviewing a CGE model developed by EPA's National Center for Environmental Economics (NCEE) for use by agency analysts for the economic analysis of environmental regulations. Experts selected for the panel will be asked to review the model code and documentation, run the model and independently verify how it works to respond to NCEE's charge questions. Thus, the SAB Staff Office is seeking nominations of environmental economists and other experts with extensive experience building and using CGE models. The SAB CGE Model Review Panel will comply with the provisions of FACA and all appropriate SAB Staff Office procedural policies. The SAB CGE Model Review Panel will operate under the auspices of the SAB.

Request for Nominations: The SAB Staff Office is seeking nominations of environmental economists and other experts with CGE modeling experience.

Process and Deadline for Submitting Nominations: Any interested person or organization may nominate qualified individuals with CGE modeling experience for possible service on the SAB CGE Model Review Panel identified in this notice. Nominations should be submitted in electronic format (preferred) following the instructions for “Nominating Experts to Advisory Panels and Ad hoc Committees Being Formed,” provided on the SAB website (see the “Nomination of Experts” link under “Current Activities”) at http://www.epa.gov.sab.

To receive full consideration, EPA's SAB Staff Office requests contact information about the person making the nomination; contact information about the nominee; the disciplinary and specific areas of expertise of the nominee; the nominee's resume or curriculum vitae; sources of recent grant and/or contract support; and a biographical sketch of the nominee indicating current position, educational background, research activities, and recent service on other national advisory committees or national professional organizations.

Persons having questions about the nomination procedures, or who are unable to submit nominations through the SAB website, should contact Dr. Holly Stallworth as indicated above in this notice. Nominations should be submitted in time to arrive no later than May 15, 2019. EPA values and welcomes diversity. All qualified candidates are encouraged to apply regardless of sex, race, disability, or ethnicity.

The EPA SAB Staff Office will acknowledge receipt of nominations. The names and biosketches of qualified nominees identified by respondents to this Federal Register notice, and additional experts identified by the SAB Staff, will be posted in a List of Candidates on the SAB website at http://www.epa.gov/sab. Public comments on the List of Candidates will be accepted for 21 days. The public will be requested to provide relevant information or other documentation on nominees that the SAB Staff Office should consider in evaluating candidates.

For the EPA SAB Staff Office, a balanced review panel includes candidates who possess the necessary domains of knowledge, the relevant scientific perspectives (which, among other factors, can be influenced by work history and affiliation), and the collective breadth of experience. The SAB Staff Office will consider public comments on the List of Candidates, information provided by the candidates themselves, and background information independently gathered by the SAB Staff Office. Selection criteria to be used for panel membership include: (a) Scientific and/or technical expertise, knowledge, and experience (primary factors), e.g. journal publications within the last ten years that rely on and discuss CGE model results; (b) availability and willingness to serve; (c) absence of financial conflicts of interest; (d) absence of an appearance of a loss of impartiality; and (e) skills working in panels and advisory committees; and, (f) for the panel as a whole, diversity of expertise and scientific points of view.

The SAB Staff Office's evaluation of an absence of financial conflicts of interest will include a review of the “Confidential Financial Disclosure Form for Special Government Employees” (EPA Form 3110-48). This confidential form allows government officials to determine whether there is a statutory conflict between a person's public responsibilities (which include membership on an EPA federal advisory committee) and private interests and activities, or the appearance of a loss of impartiality, as defined by federal regulation. The form may be viewed and downloaded from the following URL address http://yosemite.epa.gov/sab/sabproduct.nsf/Web/ethics?OpenDocument.

Dated: April 9, 2019.
Khanna Johnston,
Deputy Director, EPA Science Advisory Board Staff Office.

[FR Doc. 2019-08304 Filed 4-23-19; 8:45 am]

BILLING CODE 6560-50-P